NATIONAL AERONAUTICS AND SPACE ADMINISTRATION

[Notice (07-067)]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Friday, October 12, 2007, 9 a.m. to 11 a.m. Eastern Daylight Time.

ADDRESSES: Ohio Aerospace Institute, NASA Safety Center, Presidents Room, 22800 Cedar Point Road, Brook Park, OH 44142.

FOR FURTHER INFORMATION CONTACT: Ms. Kathy Dakon, Aerospace Safety Advisory Panel Executive Director, National Aeronautics and Space Administration, Washington, DC 20546, (202) 358-0732.

SUPPLEMENTARY INFORMATION: The Aerospace Safety Advisory Panel will hold its Quarterly Meeting. This discussion is pursuant to carrying out its statutory duties for which the Panel reviews, identifies, evaluates, and advises on those program activities, systems, procedures, and management activities that can contribute to program risk. Priority is given to those programs that involve the safety of human flight. The agenda will include Safety Organization and Management, Human Capital, Safety Culture, Orbital Debris Policy, Constellation Program Safety, Columbia Accident Investigation Board and Return to Flight Progress, Human Rating Requirements, and Astronaut Assessment. The meeting will be open to the public up to the seating capacity of the room. Visitors will be required to sign-in with the receptionist at the front desk.

During the first 30 minutes of the meeting, members of the public may make a 5-minute verbal presentation to the Panel on the subject of safety in NASA. To do so, please contact Ms. Susan Burch on (202) 358-0914 at least 24 hours in advance. Any member of the public is permitted to file a written statement with the Panel at the time of the meeting. Verbal presentations and written comments should be limited to the subject of safety in NASA. It is imperative that the meeting be held on this date to accomodate the scheduling priorities of the key participants.

Dated: September 18, 2007.
P. Diane Rausch,
Advisory Committee Management Officer, National Aeronautics and Space Administration.

[FR Doc. E7-18800 Filed 9-24-07; 8:45 am]

BILLING CODE 7510-13-P